DEPARTMENT OF TRANSPORTATION

Office of the Secretary

14 CFR Parts 255 and 399

[Docket Nos. OST-97-2881, OST-97-3014, OST-98-4775, and OST-99-5888]

RIN 2105-AC65

Computer Reservations System (CRS) Regulations; Statements of General Policy

AGENCY: Office of the Secretary, Department of Transportation.

ACTION: Proposed rule; notice of petition response date.

SUMMARY: The Department has issued a notice of proposed rulemaking that proposes to readopt and amend its existing rules governing airline computer reservations systems (CRSs) and to clarify the requirements of its Statements of General Policy on travel agency disclosure of any agency service fees. Sabre, one of the CRSs, has filed a petition asking for a fact hearing. The Department is now establishing January 13, 2003, as the due date for responses to Sabre's petition.

DATES: Responses to Sabre's petition are due January 13, 2003.

FOR FURTHER INFORMATION CONTACT: Thomas Ray, Office of the General Counsel, 400 Seventh St., SW., Washington, DC 20590, (202) 366-4731.

SUPPLEMENTARY INFORMATION: The Department has begun a rulemaking to reexamine whether it should maintain its existing rules governing CRS operations. We issued a notice of proposed rulemaking that set forth our tentative proposals regarding the existing rules and our tentative belief that we should not extend the rules to cover the sale of airline tickets through the Internet. 67 FR 69366 (November 15, 2002). We stated our intent to follow the notice-and-comment procedures established by the Administrative Procedure Act for informal rulemakings. 67 FR 69369. Comments and reply comments on our notice of proposed rulemaking are now due March 16 and May 15, 2003. 67 FR 72869 (December 9, 2002).

On December 23 Sabre filed a petition asking us to hold a “Fact Hearing.” Sabre asserts that our notice did not provide an adequate factual basis for our tentative decision that we should maintain the existing rules with some changes. The hearing sought by Sabre would include, among other things, testimony from a Department official on the factual basis underlying these decisions.

Delta Airlines, assuming that answers to Sabre's petition would normally be due January 3, has filed a motion asking that answers be due January 13. Sabre filed its 33-page petition on December 23. Delta contends that it did not receive a copy of the petition until December 30, since Sabre had served it by mail, that Delta would have only two business days to prepare its response if it were required to respond by January 3, and that a 10-day extension would be reasonable. Delta notes that the petition seeks extraordinary relief and raises a number of controversial legal issues.

We believe that Delta's request is reasonable and that responses by other parties would assist our consideration of Sabre's petition. Given the holidays and the unusual nature of Sabre's petition, establishing January 13 as the due date for answers would give the parties an adequate time to respond without delaying the rulemaking. We therefore invite interested persons to file answers by January 13.

Issued in Washington, DC on January 2, 2003.
Kirk K. Van Tine,
General Counsel.

[FR Doc. 03-355 Filed 1-8-03; 8:45 am]

BILLING CODE 4910-63-P